ENVIRONMENTAL PROTECTION AGENCY

[FRL-8439-5]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program.

AGENCY: Environmental Protection Agency (EPA).

ACTION: Notice of Availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The document may be located by date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION: Background: The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP and section 111(d) of the Clean and Air Act regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 86 such documents added to the ADI on July 6, 2007. The subject, author, recipient, date and header of each letter and memorandum are listed in this notice, as well as a brief abstract of the letter or memorandum. Complete copies of these documents may be obtained from the ADI through the OECA Web site at: http://www.epa.gov/compliance/monitoring/programs/caa/adi.html.

Summary of Headers and Abstracts

The following table identifies the database control number for each document posted on the ADI database system on July 6, 2007; the applicable category; the subpart(s) of 40 CFR part 60, 61, or 63 (as applicable) covered by the document; and the title of the document, which provides a brief description of the subject matter. Please note that the table that appeared in the December 4, 2006 notice (71 FR 70383) contained one document whose title was in error. The title for the document assigned control number M060016 was listed in the table as “Once In/Always In Rule.” It should have read “Once In/Always In Policy.”

We have also included an abstract of each document identified with its control number after the table. These abstracts are provided solely to alert the public to possible items of interest and are not intended as substitutes for the full text of the documents. This notice does not change the status of any document with respect to whether it is “of nationwide scope or effect” for purposes of section 307(b)(1) of the Clean Air Act. Neither does it purport to make any document that was previously non-binding into a binding document.

ADI Determinations Uploaded on July 6, 2007
Control number | Category | Subparts | Title
600030 | NSPS | X | Applicability for Distribution Facilities.
600031 | NSPS | Y | Classification of Coal Truck Dump Operations.
600032 | NSPS | Y | Applicability to Existing Conveying Equipment.
600033 | NSPS | RRR, VV | Biomass Ethanol Production.
600034 | NSPS | NNN, RRR | Biomass Ethanol Production.
600035 | NSPS | III | Thirty Day Notification Requirement.
600036 | NSPS | J | Date of Construction and/or Modification.
600037 | NSPS | Kb | Definition of Reconstruction for Oil Storage Tank.
600038 | NSPS | GG | Custom Monitoring Schedule: Gas Processing Plant.
600039 | NSPS | GG | Custom Monitoring Schedule for Turbine.
600040 | NSPS | KK | Reversing Modifications to Avoid Applicability.
600041 | NSPS | J | Waiver of Monitoring Requirements.
600042 | NSPS | Db | Requirements when Burning Jet Fuel.
600043 | NSPS | F | Use of Clinker Cooler and Kiln Gas as Process Gas.
600045 | NSPS | Kb | Storage Vessels for Volatile Organic Liquid (VOL).
600046 | NSPS | D, Da | Resource Recovery Plants.
600047 | NSPS | J | Sulfur Recovery Unit
600048 | NSPS | GG | Part 75 Monitoring as Alternative to Part 60.
600049 | NSPS | A | Part 75 Monitoring as Alternative to Part 60.
600050 | NSPS | A | Part 75 Monitoring as Alternative to Part 60.
600051 | NSPS | GG | Custom Fuel Monitoring Schedules.
600052 | NSPS | GG | Parametric Monitoring Plan.
600053 | NSPS | Db | Alternative Opacity Monitoring for Boiler.
600054 | NSPS | Db | Part 75 Monitoring as Alternative to Part 60.
600055 | NSPS | Dc | Alternative Fuel Monitoring Requirements.
600056 | NSPS | Dc | Alternate Fuel: Use Monitoring Schedule.
600057 | NSPS | A | Part 75 Monitoring as Alternative to Part 60.
600058 | NSPS | VVV | Alternative Capture System Monitoring.
600059 | NSPS | NNN, RRR | Alternative Monitoring/Performance Test Waiver.
600060 | NSPS | Dc | Alternative Fuel Usage Recordkeeping Procedure.
600061 | NSPS | AA, AAa | Alternative Monitoring on Baghouses.
600062 | NSPS | WWW | Changes to Standard Operating Procedures.
600063 | NSPS | WWW | Leachate Collection System Risers.
600064 | NSPS | OOO | Performance Testing Waiver.
600065 | NSPS | TT | Stack Testing Waiver.
600066 | NSPS | Cc, WWW | Definition of Gas Treatment.
600067 | NSPS | Da, GG | Testing and Monitoring Alternatives.
600068 | NSPS | GG | Part 75 Monitoring as Alternative to Part 60.
600069 | NSPS | WWW | Subject to Part 62 Federal Plan and Part 60.
600070 | NSPS | A, Db | Alternative Opacity Monitoring—Auxiliary Boiler.
600071 | NSPS | OOO | Performance Test Time Extension.
600072 | NSPS | Ec | Alternative Operating Parameters for Monitoring.
600074 | NSPS | Dc | Reduced Fuel Usage Monitoring Frequency.
600075 | NSPS | Db | Alternative Opacity Monitoring.
600076 | NSPS | Dc | Reduced Fuel Usage Monitoring Frequency.
600077 | NSPS | Dc | Boiler Derate.
600078 | NSPS | Dc | Boiler Derate.
600079 | NSPS | Db | Predictive Emission Monitoring System.
600080 | NSPS | VV | Recordkeeping and Reporting Waiver.
600081 | NSPS | WWW | Alternative Landfill Gas Temperature Limit.
600083 | NSPS | J | Alternative Monitoring Plan for LPG Flare.
600084 | NSPS | O | Interpretation of Percent Oxygen Readings.
600085 | NSPS | J | Coke Burn-off and Catalyst Regenerator Flow Rate.
600086 | NSPS | GG | Initial Test Waiver for Identical Gas Turbines.
600087 | NSPS | J | Alternative Monitoring—Semi-Regenerative Reformer.
600088 | NSPS | NNN, PPP | Alternative Method for Determining Glass Pull Rate.
600089 | NSPS | Db | Alternative Span Value.
600090 | NSPS | OOO | Test Waiver for Baghouse.
600091 | NSPS | Dc | Boiler Derate.
600092 | NSPS | WWW | Definition—Contiguous for Separate Disposal Areas.
600093 | NSPS | Dc | Boiler Derate.
600094 | NSPS | XX | Performance Test Waiver.
600095 | NSPS | Db | Alternative Opacity Monitoring.
600096 | NSPS | WWW | Leachate Collection Risers.
600097 | NSPS | A, P | Monitor Pathlength Correction Factor.
600098 | NSPS | NNN | Alternative Monitoring for Enclosed Flare.
600099 | NSPS | A, J | Alternative Monitoring of Refinery Fuel Gas.
600100 | NSPS | Ce, Ec | Alternative Monitoring of Carbon Monoxide.
M060027 | MACT | O | Alternative Monitoring Using Gas Detection Sensor.
M060028 | MACT | JJJJ, S | Core Manufacturing at Pulp and Paper Mills.
M060029 | MACT | JJJJ | Web Coating—Laminating/Ply-bonding Operation.
M060030 | MACT | JJJJ | Method 24 Determination of Organic HAP Content.
M060031 | MACT | MMMM | Rebuilt Primer Booth.
M060032 | MACT | JJ, MMMM | Refinishing of Facility Equipment.
M060033 | MACT | MM | Alternative Control Device Operating Parameters.
M060034 | MACT | HHHHH, JJJJ | Scenarios for MCM, MON and POWC Applicability.
M060036 | MACT | M | Area vs. Major Sources.
M060037 | MACT | OOOO | Shoelace Tipping Operations.
M060038 | MACT | AAAA | Alternative Deadline for SSM Reports.
M060039 | MACT | RRR | Definition of Clean Charge.
M060041 | MACT | DDDD | Typical Manufacturing Component Scenarios.
M060042 | MACT | F | Benzene Emissions from Heat Exchanger Leaks.
M060044 | MACT | NNNNN | 30 Weight Percent Acid.
M060045 | MACT | WWWW | Emission Factors vs. Tests to Determine Compliance.
Z060002 | NESHAP | T | Cessation of Annual Reports.
Z060004 | NESHAP | F | Benzene Emissions from Exchange Leaks.

Abstract for [M060027]

Q: Does EPA approve an alternative monitoring request under 40 CFR part 63, subpart O, to use a gas detection sensor (i.e., CEA Instruments ET-6200R U Series) instead of a gas chromatograph or flame ionization analyzer for the International Sterilization Laboratory (ISL) facility in Groveland, Florida?

A: Yes. EPA finds that a gas detection sensor is an acceptable alternative to a gas chromatograph or flame ionization detector, contingent upon the successful outcome of the required performance specification (PS) 8 testing in 40 CFR part 60, appendix B, for ethylene oxide.

Abstract for [M060028]

Q: Could the EPA clarify to the American Forest & Paper Association whether the manufacturing of cores for rolled towels and tissue is subject to 40 CFR part 63, subpart JJJJ? In manufacturing the cores, two rolls of core stock are unwound with glue continuously applied, then wound together to form a core, and cut to fit the rewinder length.

A: EPA finds that this core manufacturing activity is subject to 40 CFR part 63, subpart JJJJ when it takes place at a major source of hazardous air pollutants. The affected source under subpart JJJJ is the collection of all web coating lines at a facility, with certain exceptions. The core stock is a web because it is a continuous substrate flexible enough to be wound or unwound as rolls. Glue application occurs within a web coating line because the glue is applied to the core stock web substrate between an unwind or feed station and a rewind or cutting station. Glue is an adhesive coating material within the subpart JJJJ definition.

Abstract for [M060029]

Q: Could the EPA clarify to the American Forest & Paper Association whether the laminating/ply-bonding of embossed, multi-layered paper products that occurs at a major source of hazardous air pollutant (HAP) emissions is subject to the requirements of 40 CFR part 63, subpart JJJJ? The process consists of a raised or depressed pattern that is embossed on a paper web by passing the web between two steel rolls or plates, one of which is engraved. In the laminating/ply-bonding operation, adhesive is applied by a roller to bind multiple layers of substrate.

A: EPA finds that the adhesive is applied as a continuous coating layer by the laminating/ply-bonding operation. Based on the web coating line definition and the description of the laminating/ply-bonding operation included with the letter, the laminating/ply-bonding operation takes place on a web coating line, and is therefore subject to the requirements of part 63, subpart JJJJ, provided that it takes place at a major source of HAP emissions.

Abstract for [M060030]

Q: Could the EPA clarify to the American Forest & Paper Association whether facilities may use the results of Method 24, which measures the volatile organic compound (VOC) content of coating materials, instead of the results of Method 311, which measures the organic hazardous air pollutants (HAP) content of the materials, in compliance calculations under 40 CFR part 63, subpart JJJJ?

A: EPA has determined that facilities may substitute Method 24 determinations of VOC content for Method 311 determinations of organic HAP content, provided that the substitution is implemented consistently within an equation and all given set of compliance calculations. Compliance determinations under part 63, subpart JJJJ requires monthly calculation of as-applied organic HAP content using measurements of the organic HAP content of as-purchased material, and of any added material. 40 CFR 63.3360(c)(2) allows substitution of Method 24 determinations of VOC content for Method 311 determinations of organic HAP.

Abstract for [M060031]

Q: Is a replaced primer booth at the CNH America, LLC facility a new source under part 63, subpart MMMM?

A: No. EPA does not find the replaced primer booth to be a new source under 40 CFR part 63, subpart MMMM. If the replacement had involved construction of a completely new miscellaneous metal parts and products surface coating facility, where previously no miscellaneous metal parts and products surface coating facility had existed, then the replaced primer booth would be a new source under 40 CFR part 63, subpart MMMM. The facility will need to provide documentation to the delegated state agency to demonstrate that the replaced booth does not meet the definition of “reconstruction” in 40 CFR 63.2, and to document that the facility remains in compliance with a potential to emit limitation.

Abstract for [M060032]

Q1: Could EPA clarify to Vorys, Sater, Seymour and Pease LLP whether the refinishing of metal equipment that is used to manufacture wood furniture and coats metal parts and equipment that are not metal components of wood furniture is subject to 40 CFR part 63, subpart JJ?

A1: EPA finds that the refinishing of metal equipment at the facility falls within the affected source of 40 CFR part 63, subpart MMMM, and would therefore be excluded from 40 CFR part 63, subpart JJ. EPA also finds that this activity falls within facility maintenance activities that are exempt from 40 CFR part 63, subpart MMMM requirements.

Q2: Is the construction and painting of wooden workbenches, shelving, and/or shadow boards, as well as the recoating or refinishing of wooden workbenches subject to 40 CFR part 63, subpart JJ, if the materials are for use within the facility?

A2: Yes. EPA finds that construction and painting activities are subject to 40 CFR part 63, subpart JJ. This rule does not distinguish activities that produce items for sale from activities that produce items for use at the facility. For refinishing and restoration activities, the background information document for subpart JJ clarifies that those activities are not considered part of wood furniture manufacturing and thus are not subject to subpart JJ.

Q3: Is the ink jet printing of letters or numbers on wood substrate subject to 40 CFR part 63, subpart JJ?

A3: Yes. EPA finds that this activity is subject to 40 CFR part 63, subpart JJ because inks are included in the coating definition and the printing serves as a functional use.

Abstract for [M060033]

Q: Does EPA approve the monitoring of alternative operating parameters for the lime kiln scrubber, under 40 CFR part 63, subpart MM, at MeadWestvaco's pulp mill in Rumford, Maine?

A: Yes. EPA conditionally approves the request to install, calibrate, maintain, and operate a continuous flow monitoring system and supply pressure monitoring system to measure scrubbing liquid re-circulation flow rates and pressure from the wet scrubber used to control emissions from the lime kiln. This system, in conjunction with four conditions specified in the EPA response letter, can be used in lieu of monitoring and recording the differential pressure across the scrubber, as required by 40 CFR part 63, subpart MM.

Abstract for [M060034]

Q1: Could EPA clarify to 3M EHS Operations whether shared “process equipment” under the Process Unit Group (PUG) definition in 40 CFR part 63, subpart FFFF, the National Emission Standards for Hazardous Air Pollutants: Miscellaneous Organic Chemical Manufacturing (MON rule), may include the following scenarios at various 3M facilities: (i) Piping manifold systems and pumps used to deliver raw materials or remove waste or product from process units; (ii) portable equipment, such as filtering systems; and/or (iii) ovens used to warm raw materials in drums or totes prior to introduction into the process vessel?

A1: Yes. EPA finds that while those pieces of equipment may be part of a PUG, they cannot be the sole shared equipment in the PUG.

Q2: Could EPA clarify the applicability criteria under the National Emission Standards for Hazardous Air Pollutants: Miscellaneous Coating Manufacturing (MCM rule) at 40 CFR part 63, subpart HHHHH, under the following specific scenarios at 3M facilities: Plant 1 contains Process Vessel (A), which is used to manufacture two types of coatings, i.e., Coating (a) and Coating (b). Process Vessel (A) is not an affected source or part thereof under another MACT standard. The production of Coating (a) does not involve the process, use or production of any hazardous air pollutant (HAP). The production of Coating (b) does involve the process, use or production of a HAP. Both Coating (a) and Coating (b) are sold to commerce. If, in a year, Process Vessel (A) is used more hours to manufacture Coating (a) than Coating (b), is Process Vessel (A) then part of the MCM rule affected source of Plant 1? If, in a year, Process Vessel (A) manufactures more product on a weight basis of Coating (a) than Coating (b), then is Process Vessel (A) part of the MCM rule affected source of Plant 1?

A2: EPA finds that Process Vessel (A) is part of the affected source under the MCM rule at all times that it is manufacturing Coating (b). The MCM rule does not include the concept of “primary product.” Therefore, neither the time in use for the production of a product, nor the mass amount of a product affects the applicability of the standard.

Q3: Could EPA clarify the applicability criteria under the following specific scenarios at 3M facilities: Plant 1 is subject to 40 CFR part 63, subpart HHHHH (MCM rule). Process Vessel (A) at Plant 1 is not part of a PUG under 40 CFR part 63, subpart FFFF (MON rule). It is also not an affected source or part thereof under another 40 CFR part 63 standard. Process Vessel (A) is used to manufacture two products, Product (a) and Product (b), neither of which are coatings as defined by the MCM rule. Process Vessel (A), while manufacturing Product (a), meets all of the criteria of a multiple miscellaneous chemical process unit (MCPU) under the MON rule, and does not meet any of the exemptions in the MON rule. Process Vessel (A), while manufacturing Product (b), either does not meet the criteria for an MCPU under the MON rule, or is subject to one of the exemptions in the MON rule. Is Process Vessel (A) subject to the MON rule during the manufacture of both Product (a) and Product (b)?

A3: EPA finds that Process Vessel (A) is subject to the MON standard only during the manufacture of Product (a). This is the only time it meets the applicability of that rule because the product of the process determines rule applicability.

Q4: Could EPA clarify the applicability criteria of the following scenario(s) at 3M facilities: Plant 1 is a major source of HAP emissions. Process Vessel (A) at Plant 1 is not part of a PUG under the MON rule in 40 CFR part 63, subpart FFFF. Process Vessel (A) is used to manufacture Product (b) from several Raw Materials (a), and mixing, blending, etc., in Process Vessel (A) do not involve any chemical reaction or change in basic chemistry of Product (b) from Raw Materials (a). Product (b) is not a coating as defined by the MCM rule in 40 CFR part 63, subpart HHHHH. Process Vessel (A), while manufacturing Product (b), meets all of the criteria for an MCPU and is subject to none of the exemptions of the MON rule. Is process vessel (A) subject to the MON rule?

A4: EPA finds that process Vessel (A) would be subject to the MON rule because it meets all of the criteria for an MCPU in the rule and does not meet any of the exemptions. Whether there is chemical reaction during the manufacturing process is not a factor for determining the applicability of the MON rule. Although chemical reaction is typically associated with the manufacture of organic chemicals, it is not exclusively so.

Q5: Could EPA clarify the applicability criteria of the following scenario(s) at 3M facilities: Plant 1 has operations subject to both 40 CFR part 63, subpart FFFF (MON rule) and the 40 CFR part 63, subpart HHHHH (MCM rule). Process Vessel (A) at plant 1 is not an affected source or part thereof under another MACT standard. Process Vessel (A) is not part of a PUG developed under the MON rule. Process Vessel (A) is used to manufacture two products, Product (a) and Product (b). Product (a) is a coating as defined in the MCM rule and involves the process, use, or production of HAP. Process Vessel (A), while manufacturing Product (b), meets all of the criteria for an MCPU under the MON rule and meets none of the exemptions in the MON rule. Is Process Vessel (A) subject to either the MON rule, the MCM rule, or both?

A5: EPA finds that process Vessel (A) is subject to the MCM rule when manufacturing Product (a). Process Vessel (A) is subject to the MON rule when manufacturing Product (b). Process Vessel (A) cannot be subject to both standards at the same time because both the MON rule and MCM rule contain language that states that the particular affected facility cannot be part of another 40 CFR part 63 affected facility.

Q6: Could EPA clarify the following scenario(s) regarding applicability criteria at 3M facilities: Plant 1 is subject to the 40 CFR part 63, subpart HHHHH (MCM rule), and is not subject to the National Emission Standards for Hazardous Air Pollutants: Paper and Other Web Coating (POWC rule) at 40 CFR part 63, subpart JJJJ. Plant 2 consists of a Web Coating Line (B) which is part of an affected source under the POWC rule. Process Vessel (A) at Plant 1 is used only to manufacture a coating that is used by the Web Coating Line (B). Plants 1 and 2 are not contiguous and may in fact be located in different states. Does 40 CFR part 63, subpart HHHHH (MCM rule) apply to Plant 1 for the production of the coating in Process Vessel (A)?

A6: Yes, the MCM rule is applicable to Plant 1 for the production of the coating in Process Vessel (A) because Process Vessel (A) is not located at the POWC affected source and therefore cannot be an affiliated operation of a POWC affected source.

Q7: Plant 1 consists of Process Vessel (A), which is an MCPU under the MON rule (40 CFR part 63, subpart FFFF). Process Vessel (A) is not part of a PUG under the MON rule. Plant 2 consists of both Web Coating Line (C), which is part of an affected source under the POWC rule (40 CFR part 63, subpart JJJJ), and Process Vessel (B), which manufactures coatings for Web Coating Line (C). Process Vessel (A) produces miscellaneous organic chemical Product (b), which is sold to commerce, and miscellaneous organic chemical Product (a) which is used as an ingredient by Plant 2 to manufacture the coating in Process Vessel (B). How do the MON rule and the POWC rule apply to Plant 1 and Plant 2?

A7: EPA finds that Process Vessel (A) in Plant 1 is subject to the MON rule when producing either Product (a) or Product (b) because production of Product (b) meets the applicability of the MON rule and production of Product (a) does not meet the exemption for affiliated operations under 40 CFR 63.2435(c)(3) of the MON rule. The production of the coating in Process Vessel (B) would be an affiliated operation under the POWC rule, because the mixing or dissolving of coatings prior to application as an affiliated operation would include the actual production of the coating when performed at an affected source listed in 40 CFR 63.7985(d)(2).

Q8: Could EPA clarify the applicability criteria of the following scenario(s) at 3M facilities: The Web Coating Line (C) is part of an affected source at Plant 1 under 40 CFR part 63, subpart JJJJ (POWC rule). Equipment (A) at Plant 1, which consists of process vessels with associated agitators, pumps, etc., is used to manufacture HAP-containing coatings for the Web Coating Line (C). A subset of Equipment (A), designated as Equipment (B), is also used at other times to manufacture different coatings which are sold to general commerce as Finished Products (a). Are Equipment (A) and/or Equipment (B) subject to 40 CFR part 63, subpart HHHHH (MCM rule)?

A8: EPA finds that all of the equipment in Equipment (A), including Equipment (B), would not be subject to the MCM rule when they are used to manufacture a coating for Web Coating Line (C). During this time, the process carried out in these equipments would be an affiliated operation under the MCM rule at 40 CFR 63.7985(d)(2). Equipment (B), when making Finished Product (a), would be subject to the MCM rule, as it would not qualify as an affiliated operation of a POWC rule affected source because Finished Product (a) is not applied at the POWC rule affected source.

Q9: Could EPA clarify the applicability criteria of the following scenario(s) at 3M facilities: Web Coating Line (B) at Plant 1 is part of an affected source under 40 CFR part 63, subpart JJJJ (POWC rule). Process Vessel (A) at Plant 1 is used to manufacture HAP-containing Coatings (a) for Web Coating Line (B). Some part of the Coatings (a) are sent to Off-site Locations (C) for quality assurance/quality control, pilot coating lines, and/or research and development. Is Process Vessel (A) an affected source under 40 CFR part 63, subpart HHHHH (MCM rule)?

A9: EPA finds that when Process Vessel (A) is making HAP-containing Coatings (a) for Web Coating Line (B), it is not a MCM rule affected source because it is an affiliated operation of the POWC rule affected source. However, when Process Vessel (A) is making HAP-containing Coatings (a) for use off-site, it no longer meets the definition of affiliated operations for the POWC rule affected source. If the Off-site Locations (C) met the exemptions in the rule, then the production of HAP-containing Coatings (a) for these purposes would be exempt from MCM rule.

Q10: Could EPA clarify the applicability criteria of the following scenario(s) at 3M facilities: Web Coating Line (D) is part of an affected source at Plant 1 under 40 CFR part 63, subpart JJJJ (POWC rule). Web Coating Line (E) is part of an affected source at Plant 2 under the POWC rule. Process Vessel (A) at Plant 1 manufactures (with or without an intended chemical reaction) the HAP-Containing Coating (a) for Web Coating Line (D). Process Vessel (B) at Plant 1 manufactures (with or without a chemical reaction) the HAP-Containing Coating (b) for Web Coating Line (D) and for Web Coating Line (E), and manufactures another HAP-Containing Coating (d) which is sold to commerce. Process Vessel (C) in Plant 2 manufactures a HAP-Containing Coating (c) for Web Coating Line (E). Does 40 CFR part 63, subpart HHHHH (MCM rule) apply to Plant 1 and/or Plant 2?

A10: EPA finds that the MCM rule would apply to Process Vessel (B) in Plant 1 when manufacturing HAP-Containing Coating (d) because it would not be an affiliated operation as the HAP-Containing Coating (d) is not used in a 40 CFR part 63, subpart JJJJ (POWC rule) process. The MCM rule would not apply to Process Vessel (A) in Plant 1 when producing HAP-Containing Coating (a) for use in Web Coating Line (D) because it would be exempt under 40 CFR 63.7985(d)(2) as an affiliated operation located at a POWC rule affected source. Process Vessel (C) in Plant 2, which produces HAP-Containing Coating (c) for use with Web Coating Line (E), would be an affiliated operation of 40 CFR part 63, subpart JJJJ (POWC) Web Coating Line (E) and therefore not subject to the MCM rule per the same exemption. When manufacturing HAP-Containing Coating (b) for Web Coating Line (D), Process Vessel (B) also would be exempt from the MCM rule under 40 CFR 63.7985(d)(2). However, because there is no concept of primary use in either the POWC rule or the MCM rule, Process Vessel (B), would be subject to the MCM rule when producing HAP-Containing Coating (b) for Web Coating Line (E) because it would not be an affiliated operation located at the relevant POWC rule affected source.

Q11: Could EPA clarify the applicability criteria of the following scenario(s) at 3M facilities: Plant 1 produces product coatings and chemical intermediates in several steps. In Step 1a, Process Vessel (A) is used to manufacture Intermediate (a). While manufacturing Intermediate (a), Process Vessel (A) meets all of the criteria for an MCPU under the MON rule (40 CFR part 63, subpart FFFF) and meets none of the exemptions in the MON rule. Process Vessel (A) is not a PUG under the MON rule. It is also not part of an affected source under another subpart of 40 CFR part 63. In Step 1b, one-half of the Intermediate (a) is drained away from Process Vessel (A) into drums for temporary storage. In Step 2a and 2b, other raw materials, some of which contain HAP, are added to the remaining one-half of Intermediate (a) in Process Vessel (A) to manufacture a coating (with or without a chemical reaction). In Step 3, the one-half of Intermediate (a) which was drained into drums is removed from storage and pumped back into the now empty Process Vessel (A) or another process vessel, along with other raw materials (some of which contain HAP) to manufacture a coating (with or without chemical reaction). How do 40 CFR part 63, subpart FFFF (MON) and 40 CFR part 63, subpart HHHHH (MCM) apply to Plant 1?

A11: EPA finds that Steps 1a and 1b would be subject to the MON rule because it applies to the production of an isolated intermediate at an MCPU. Because a portion of Intermediate (a) is removed from the process in Step 1b into a drum for storage, Intermediate (a) is an isolated intermediate. Steps 2a, 2b, and Step 3 would all be subject to the MCM rule because the final product of these processes is a coating, and they appear to meet the applicability requirements of the MCM rule (e.g., use of HAPs).

Abstract for [M060036]

Q: Is the Battisons of Avon, Connecticut, (Battisons) facility a major source or an area source of hazardous air pollutants (HAP) emissions subject to 40 CFR, part 63, subpart M, if it replaces its old dry cleaning systems and installs all new dry-to-dry dry cleaning systems before the compliance date?

A: EPA finds that Battisons is an area source of HAP emissions subject to 40 CFR part 63, subpart M because it has maintained its perchloroethylene consumption below the 2,100 gallons threshold limit since before the compliance date. The applicability provision at 40 CFR 63.320(g) states that, “In lieu of measuring a facility's potential to emit perchloroethylene emissions or determining a facility's potential to emit perchloroethylene emissions, a dry cleaning facility is a major source if: (1) It includes only dry-to-dry machine(s) and has a total yearly perchloroethylene consumption greater than 8,000 liters (2,100 gallons) as determined according to 63.323(d). * * *” However, if Battisons exceeds the yearly perchloroethylene consumption of 2,100 gallons when it starts up the new systems, it will become a major source of HAP emissions, according to 40 CFR 63.320(i), and all its dry cleaning systems will have to comply with the appropriate requirements within 180 calendar days from the date it exceeded that threshold value.

Abstract for [M060037]

Q: Is the Rhode Island Textile Company, Inc. (RIT) facility, located in Pawtucket, Rhode Island, that manufactures shoelaces and submits the shoelaces to tipping operations subject to 40 CFR part 63, subpart OOOO?

A: No. EPA has determined that because the company is not coating, printing, slashing, finishing or dyeing the product, it is not subject to 40 CFR part 63, subpart OOOO.

Abstract for [M060038]

Q: Is it acceptable under 40 CFR part 63, subpart V, for the North Shelby Landfill facility to submit startup, shutdown, and malfunction (SSM) reports within 60 days after the end of each semiannual reporting period?

A: Yes. EPA approves the North Shelby Landfill facility request of extending the submittal of SSM reports until 60 days after the end of each semiannual reporting period, which corresponds with the existing deadline for submitting semiannual reports under the Title V permitting program. Under 40 CFR 63.9(i), an owner or operator of a facility subject to this reporting requirement can request an alternative schedule. Under the new deadline, the SSM reports and semiannual Title V reports can be submitted at the same time to simplify the owner/operator reporting requirements.

Abstract for [M060039]

Q: Could EPA clarify to Briggs & Stratton Corporation whether aluminum sows, ingots, and T-bars that have painted markings considered “clean charge” in the National Emission Standards for Hazardous Air Pollutants for Secondary Aluminum at 40 CFR part 63, subpart RRR?

A: EPA finds that as a result of the typographical errors in the definition of “clean charge,” aluminum T-bars, sows, ingots, billets, and pigs which have painted markings are not defined as “clean charge.” It is the Agency's intent that aluminum T-bar, sow, ingot, billet, and pig be considered “clean charge,” and that the phrase “entirely free of paints, coatings, and lubricants” not apply to these materials. EPA believes these materials, notwithstanding ink, grease or paint markings, should be treated as clean charge. EPA intends to amend 40 CFR part 63, subpart RRR to clarify this point.

Abstract for [M060040]

Q: What is EPA's guidance to regulators on how an owner or operator of a secondary aluminum production facility can know that the scrap processed at its facility is “entirely free of paints, coatings, and lubricants” under 40 CFR part 63, subpart RRR?

A: EPA believes that an owner or operator of a secondary aluminum production facility may know whether the scrap material being processed at the facility is “entirely free of paints, coatings, and lubricants” in one of two ways. The first way to ensure a “clean charge” would be to maintain direct control of the scrap material being processed by processing scrap generated within the facility or from other facilities within the same company that the owner or operator knows has not been subjected to paints, coatings and lubricants, or where the owner or operator knows that paints, coatings and lubricants have been removed consistent with the definition of “clean charge.” Similarly, the owner or operator also may process scrap from outside entities where they are familiar with the history of the scrap and, therefore, know that the scrap meets the definition of “clean charge.”

Abstract for [M060041]

Q: Could EPA clarify to the American Home Furnishing Alliance's (AHFA) the applicability criteria under 40 CFR part 63, subpart DDDD, for nine general manufacturing scenarios in the home furnishing industry involving manufacturing components from plywood and engineered lumber?

A: The Agency has determined that most of the furniture components described in the scenarios, except for processes involving cold pressing of solid wood pieces, would meet the definition of “plywood” under 40 CFR part 63, subpart DDDD and, therefore, be subject to applicable requirements in that rule, as described in EPA's response letter. EPA interprets the term “panel product” in the definition of plywood to include flat as well as curved furniture panels. It should be noted that most of the manufacturing equipment used by the industry, such as hot presses, would not be subject to emission limits but only to notification requirements under 40 CFR part 63, subpart DDDD.

Abstract for [M060043]

Q: What is EPA's guidance to regulators on the implementation and compliance monitoring of the capture, collection, and ventilation requirements in the Secondary Aluminum NESHAP under 40 CFR part 63, subpart RRR?

A: EPA finds that the Secondary Aluminum NESHAP incorporates by reference chapters 3 and 5 of Industrial Ventilation: A Manual of Recommended Practice, 23rd edition, published by the American Conference of Governmental Industrial Hygienists (ACGIH). As required by 40 CFR 63.1506(c) of NESHAP subpart RRR, owners or operators of affected sources or emissions units with add-on air pollution control devices must design and install a system for the capture and collection of emissions to meet the engineering standards for minimum exhaust rates as published in the ACGIH manual. In addition, 40 CFR 63.1515(b)(5) requires facilities to provide design information and analysis, with supporting documentation, demonstrating conformance with these capture/collection system requirements. The memorandum provides further specifics on what steps and documentation are required to demonstrate compliance with these requirements.

Abstract for [M060044]

Q1: Could EPA clarify to Kean Miller whether an HCl unit at a facility that stops producing 30 weight percent acid for commercial sale after the compliance date is subject to 40 CFR part 63, subpart NNNNN?

A1: 40 CFR part 63, subpart NNNNN does not only apply to the production for commercial sale of 30 weight percent or greater HCl acid. Consequently, the production of HCl acid with a concentration of 30 weight percent or greater for internal use, as well as for commercial sale, may be subject to 40 CFR part 63, subpart NNNNN.

Q2: If a facility infrequently produces HCl at a 30 weight percent strength, and its monthly or weekly average is below 30 weight percent, is the facility subject to 40 CFR part 63, subpart NNNNN?

A2: No. EPA finds that a facility would not be subject to 40 CFR part 63, subpart NNNN if its production of HCl acid with a concentration of 30 weight percent or greater is infrequent, irregular, or not consistent with the facility's normal operations. In determining whether the production of 30 weight percent HCl acid is occasional or part of a facility's normal operations, EPA will make a case-by-case determination based on the frequency and regularity of HCl acid production of 30 weight percent or greater.

Q3: Does 40 CFR part 63, subpart NNNNN apply to a facility that produces liquid HCl at concentrations exceeding 30 weight percent only on an occasional basis, when requested by a customer?

A3: If a facility infrequently produces HCl with a concentration of 30 weight percent or greater and this production is not a routine part of normal operations, the facility would not be subject to 40 CFR part 63, subpart NNNNN.

Abstract for [M060045]

Q1: Could EPA clarify to Lasco Bathware Incorporated what measures are being taken by the Agency to ensure that any composite operation utilizing the “non-atomized mechanical application” emission factors for gelcoats or filled resins, is in compliance with the requirements specified in the National Emissions Standards for Hazardous Air Pollutants: Reinforced Plastic Composites Production under 40 CFR part 63, subpart WWWW?

A1: Since affected sources must comply with monitoring, recordkeeping, and reporting requirements under the Reinforced Composites Production rule (40 CFR part 63, subpart WWWW) to ensure continuous compliance, the regulatory agency is able to know when a source first becomes subject to the rule and whether it is complying with the rule. A regulatory agency could also elect, as part of its compliance and enforcement program, to inspect a source to evaluate its compliance with the 40 CFR part 63, subpart WWWW requirements and take any actions, as appropriate.

Q2: What tests are required to ensure that organic hazardous air pollutant (HAP) emissions are no greater than the organic HAP emissions predicted by the applicable non-atomized application equation(s) in Table 1 of 40 CFR part 63, subpart WWWW?

A2: No tests are required. 40 CFR part 63, subpart WWWW allows sources to use the equations in Table 1 to calculate HAP emission factors that are then used to estimate sources' emissions instead of conducting actual testing. Table 1 emission factors were used to calculate the emission limits for the MACT floor for this rule. Accordingly, the rule allows a source to use Table 1 emission factors to calculate its emissions and demonstrate compliance with the emission standard.

Q3: Could EPA clarify how it will address the known discrepancy between the emissions estimated using the published Table 1 and/or emission factors for unfilled resin, under 40 CFR part 63, subpart WWWW, and the actual emissions from tub/shower facilities, which can be verified by means of EPA emissions testing methods 18 and 25A?

A3: EPA does not yet have the industry data to do an evaluation of the current emission factors for 40 CFR part 63, subpart WWWW. After the data is received and evaluated, a determination will be made as to whether changes should be made to the rule.

Abstract for [Z060002]

Q: Is the Aerovox Division Parallax Power Components facility subject to reporting requirements under 40 CFR part 63, subpart T, if all machines at the facility subject to the rule have been removed or converted to non-regulated solvents?

A: No. EPA finds that the facility is no longer subject to 40 CFR part 63, subpart T and therefore is no longer required to submit reports under the subpart, unless the facility once again uses solvents regulated under this rule.

Abstract for [Z060004]

Q: Should benzene emissions that occur from heat exchanger leaks at the BAKER BOTTS L.L.P., Texas facility be included in the calculation of the Total Annual Benzene (TAB) quantity from facility waste water under the NESHAP for Benzene Waste Operations, 40 CFR part 61, subpart FF?

A: Yes. EPA finds that neither benzene emissions occurring from non-contact heat exchanger leaks into cooling tower water nor benzene quantities from “contact heat exchangers “qualify for the exemption or exclusion from the required TAB calculation under the NESHAP for Benzene Waste Operations, 40 CFR part 61, subpart FF. The benzene emissions are directly generated by these processes and are not the result of either leakage or process offgas. Therefore, waste in the form of gases or vapors that is emitted during these processes from the process fluids is required to be part of the calculation of the total annual benzene quantity in facility waste generation.

Abstract for [0600030]

Q: Could EPA clarify to the Florida Department of Environmental Protection whether the Agrico's Big Bend Terminal in Hillsborough County, Florida, is subject to 40 CFR part 60, subpart X, if it contends that it is a distribution and not a storage of granular triple superphosphate (GTSP) manufacturing facility?

A: Yes. EPA finds that the Big Bend Terminal facility is subject to NSPS subpart X since it was constructed, reconstructed, or modified after October 25, 1974. In addition, the definition of GTSP storage facility in 40 CFR 60.241 does not restrict applicability to storage facilities at manufacturing sites.

Abstract for [0600031]

Q: Are coal truck dump operations at the ARCO Coal Company, Colorado facility “affected facilities” subject to 40 CFR part 60, subpart Y?

A: Coal truck dump operations are not affected facilities for purposes of NSPS subpart Y. However, EPA finds that these operations are part of the coal preparation plant if they are located at the site of the plant, as defined in 40 CFR 60.251(a) of NSPS subpart Y. Therefore, quantifiable fugitive particulate emissions from coal dump operations must be included in a total source emissions inventory to determine whether the stationary source is to be considered a major source of hazardous air pollutant emissions.

Abstract for [0600032]

Q: Are conveyors 1 and 2 at the Arizona Electric Power Cooperative (AEPCO) part of the affected facility subject to 40 CFR part 60, subpart Y? Conveyor numbers 1 and 2 were built prior to the AEPCO screening and crushing facility.

A: Yes. EPA finds that AEPCO conveyor numbers 1 and 2 are part of the affected facility subject to NSPS subpart Y because these are used to convey coal or coal refuse from the machinery and the exemption in 40 CFR 60.14(c) would therefore, not apply. 40 CFR 60.14(c) exempts existing facilities from becoming affected facilities by the addition of a new affected facility. However, this case involves changes to an existing affected facility.

Abstract for [0600033]

Q: Could EPA clarify the applicability of 40 CFR part 60, subparts NNN, RRR, and VV to the production of ethyl alcohol through biological fermentation processes?

A: These regulations and their background documents state that these subparts apply only to specific processes involving synthesis of organic chemicals using petroleum-based feedstocks (in this case ethylene to ethanol) and not biological fermentation processes where emissions characteristics and industry economics differ. EPA clarified that these regulations do not apply to chemicals extracted from natural sources or totally produced by biological process in the following Federal Register notices: the notice proposing the NSPS for volatile organic compound (VOC) emissions from synthetic organic chemical manufacturing industry (SOCMI) distillation operations (40 CFR part 60, subpart NNN) (48 FR 57541); the notice promulgating the NSPS for equipment leaks of VOC in SOCMI (40 CFR part 60, subpart VV) (48 FR 48335); and the notice promulgating the NSPS for VOC emissions from SOCMI reactor processes (40 CFR part 60, subpart RRR) (58 FR 45962).

Abstract for [0600034]

Q: Could EPA clarify the applicability of 40 CFR part 60, subparts NNN, RRR, and III to biomass ethanol production?

A: EPA finds that NSPS subparts NNN, RRR, and III do not contain a blanket exemption for biomass ethanol production facilities from applicability of these subparts. Inherent difficulties in determining emissions characteristics and processes make it necessary to provide exemptions on a case-by-case basis, beyond those provided for explicitly in the rule. This case-by case applicability exemption determination is consistent with the approaches used in implementing other rules, such as the Hazardous Organic NESHAP (HON) rule, and this memorandum further clarifies an earlier EPA response dated October 7, 1996, regarding the applicability of these standards to biomass ethanol production.

Abstract for [0600035]

Q: Could EPA clarify the 30-day reporting requirement for sources which were constructed or reconstructed between proposal and promulgation, under 40 CFR part 60, subpart III?

A: Although 40 CFR part 60, subpart III does not specifically address the issue of notification deadlines for sources for which the 30-day deadline has already or nearly passed, EPA believes that it is only reasonable under NSPS subpart III to allow owners and operators the full 30 days after promulgation to provide the necessary notifications.

Abstract for [0600036]

Q: Could EPA clarify whether heaters F-501 and F-510 at the Chevron USA refinery in Perth Amboy, New Jersey, are subject to 40 CFR part 60, subpart J either because their construction commenced after June 11, 1973, or because the heaters were modified in 1982?

A: EPA finds that heaters F-501 and F-510 are subject to NSPS subpart J because they commenced construction after the applicability date of June 11, 1973. The terms “commenced” and “construction” are defined in 40 CFR 60.2. The terms were also discussed in EPA's earlier response to Chevron on May 2, 1976 (see ADI Control Number CO08). Based on these definitions, EPA finds that the construction of heaters F-501 and F-510 commenced on January 31, 1974, the date the contract for the construction of heaters F-501 and F-510 was signed and became legally binding. Because the construction of these heaters commenced after the applicability date of June 11, 1973, these heaters are subject to NSPS subpart J.

Abstract for [0600037]

Q: Is a fuel oil storage tank (Tank 19) at the Chevron Products Company, New Jersey facility subject to 40 CFR part 60, subpart Kb, if the tank is converted to an internal floating roof tank with a mechanical shoe seal for storing crude oil?

A: Yes. EPA finds that the storage tank is subject to NSPS subpart Kb because the conversions constitute “reconstruction” as defined in 40 CFR 60.14 and 40 CFR 60.15. The fixed capital costs of the new components exceed 50 percent of the initial fixed capital cost, which subjects the storage tank to NSPS subpart Kb requirements. The cost of the new foundation for the storage tank, or other costs not directly related in containerization cannot be included in calculating the fixed capital cost of the new components.

Abstract for [0600038]

Q1: Does EPA approve a custom fuel monitoring schedule for sulfur for a gas turbine, under 40 CFR part 60, subpart GG, at Conoco's Acadia Gas Processing Plant?

A1: Yes. Given that the sulfur levels continue to be low and consistent as demonstrated, EPA approves a custom schedule for sulfur, with a one week composite for each of the first six months and a one week composite for each of the following quarters. Conoco must re-evaluate the fuel composition if there is a change in the feedstock.

Q2: Does EPA approve a custom fuel monitoring schedule for nitrogen for a gas turbine, under 40 CFR part 60, subpart GG, at Conoco's Acadia Gas Processing Plant?

A2: No. EPA does not approve a custom schedule for nitrogen for a gas turbine at this facility. If Conoco would like to reapply for a custom schedule, it should provide sufficient data to demonstrate the consistency of the fuel quality on a daily basis, rather than on an average basis.

Abstract for [0600039]

Q1: Does EPA approve an alternative monitoring schedule for analyzing fuel sulfur content, under 40 CFR part 60, subpart GG, which would allow the use of weekly instead of daily composites to determine sulfur content, for the combined cycle gas turbines at Dow Chemical USA (Dow)? In addition, Dow would like these weekly composites to be conducted on a quarterly basis and believes that this alternative schedule is consistent with 40 CFR 60.334(b)(2).

A1: Yes. EPA approves the use of a weekly composite for analyzing fuel sulfur content. However, EPA does not approve the proposed quarterly sampling at this time. Weekly composites should be analyzed and checked for accuracy and consistency for six months. If after the first six months the sulfur levels remain consistent with the data provided in this review, quarterly monitoring may be requested.

Q2: Does EPA approve the microcoulometric titration technique for determining the sulfur content of fuel under 40 CFR part 60, subpart GG?

A2: No. EPA does not approve Dow's microcoulometric titration technique for determining sulfur content. The method is not a previously approved equivalent method under NSPS subpart GG, and lacks supporting data demonstrating its equivalency to proven testing methods.

Abstract for [0600040]

Q1: Could EPA clarify the applicability of 40 CFR part 60, subpart KK for the Excide Corporation (Excide) lead acid battery manufacturing plant in Greer, South Carolina?

A1: Excide's four facilities located at this plant are subject to NSPS subpart KK if they were constructed or modified after January 14, 1980, and are part of any plant that produces or has the design capacity to produce in one day (24 hours) batteries containing an amount equal to or greater than 6.5 tons of lead. Excide produces batteries containing an amount of lead greater than 6.5 tons. Also, since January 14, 1980, Excide has installed additional equipment on all four facilities, which constituted modifications to these facilities. Therefore, the plant is subject to NSPS subpart KK. Removal of all equipment added after January 14, 1980, would not by itself terminate the applicability of NSPS subpart KK to the Exide facilities. To terminate the applicability of NSPS subpart KK, Exide would have to either dismantle the affected facilities or permanently decrease (physically restrict) the plant's capacity so that the plant no longer had the capacity to produce in 1 day (24 hours) batteries containing more than 6.5 tons of lead (down from the present amount of lead).

Q2: Would Excide have a period of time to remove the additional equipment which constituted the modification in order to avoid being subject to 40 CFR part 60, subpart KK regulations?

A2: No. The applicability determination is made based on whether and when modification occurred. Subsequent restoration of the facilities to the previous physical and operational configuration would not change the finding that the facilities were modified and therefore would not relieve the company from having to comply with NSPS subpart KK.

Q3: Could EPA distinguish between a boiler derate and removing additional equipment in relation to the applicability of 40 CFR part 60, subpart KK to this facility?

A3: A boiler derate involves a permanent restriction of the boiler production capacity and could alter the entire regulated entity in such a way that it no longer meets the definition of “affected facility.” In contrast, once an existing facility has been modified by installing additional equipment, it is considered an affected facility under NSPS subpart KK in the same way as a newly-constructed affected facility would be. The subsequent removal of the added equipment leaves behind a plant that still contains affected facilities since its production rate remains well above the NSPS subpart KK applicability threshold. The entire affected facility is subject to the standards of performance, not just the portion of the affected facility which is responsible for the increase in emissions.

Abstract for [0600041]

Q: Does EPA waive the monitoring requirements, under 40 CFR part 60, subpart J, for the Hunt Refining Company?

A: No. EPA does not have the authority to waive NSPS subpart J monitoring requirements. However, the facility emits the regulated pollutants in low quantities and may qualify for a monitoring frequency reduction. The facility remains subject to continuous monitoring requirements until an alternative is approved.

Abstract for [0600042]

Q: Are two boilers, which burn only Jet A fuel, subject to 40 CFR part 60, subpart Db?

A: No. The boilers are designed to burn natural gas, and are therefore subject to NSPS subpart Db. However, these boilers are not subject to any emission standards or monitoring requirements when solely burning Jet A fuel. EPA has determined that Jet A fuel is classified as “other fuel” as referenced in NSPS subpart Db, rather than as residual or distillate oil. Jet A fuel is covered in ASTM D1655-95, which also covers diesel and gas turbine fuels.

Abstract for [0600043]

Q: Could EPA clarify the particulate matter and opacity limits applicable to the kiln, clinker cooler, and raw mill operations, under 40 CFR part 60, subpart F, at the Roanoke Cement Company in Cloverdale, Virginia?

A: All of the gas exiting the clinker cooler goes to the kiln as process gas and is therefore not subject to the opacity or particulate matter limits for clinker cooler gas in NSPS subpart F. Instead, this process gas, as well as all of the other gas exiting the kiln (that is not diverted to raw mill operations as a process gas) is subject to the kiln gas standards. The raw mill uses some kiln gas as process gas. This process gas and all other gas exiting the raw mill operations is subject to the 10 percent opacity limit applicable to raw mill gas (no particulate matter limit applies).

Abstract for [0600045]

Q1: Could EPA clarify to Woodward-Clyde Consultants whether a change in volatile organic liquid (VOL) or an increase in throughput makes an existing storage vessel subject to 40 CFR part 60, subpart Kb?

A1: Based on 40 CFR 60.14(e), switching to a higher vapor pressure VOL will not by itself be considered a modification if the existing storage vessel was designed to accommodate the higher vapor pressure VOL prior to July 23, 1984. Similarly, under 40 CFR 60.14(e), an increase in throughput will not be considered a modification if the original design of the storage vessel could accommodate the increased throughput.

Q2: Could EPA clarify the applicability of 40 CFR part 60, subpart Kb to a storage vessel that is covered by a state permit, which does not specify what VOL can be stored, and where the VOL is changed to a level that is within the emission limits established by the state permit?

A2: If an existing source undergoes reconstruction or modification after July 23, 1984, then the storage vessel will become subject to NSPS subpart Kb because state permits do not provide shielding from the NSPS. Therefore, 40 CFR part 60, subpart Kb requirements applies to the storage vessel even when the state permit fails to include such requirements.

Q3: Is acetone considered a VOL with respect to 40 CFR part 60, subparts A and Kb?

A3: No. EPA finds that acetone is not a VOL under NSPS subparts A and Kb.

Q4: Are blending tanks with a capacity of at least 40 cubic meters subject to 40 CFR part 60, subpart Kb?

A4: Yes. EPA finds that the blending tank is considered a storage tank subject to NSPS subpart Kb because 40 CFR 60.110(b) does not differentiate between storage vessels based on usage.

Q5: Is the presence or absence of a mechanical agitator in the blending tank relevant to the applicability of 40 CFR part 60, subpart Kb?

A5: EPA finds that the presence of a mechanical agitator is only relevant when one considers the question of “modification.” For example, if a product change requires blending, the installation of a mechanical agitator in the tank constitutes “physical change.” Providing that there are emission increases associated with the product storage change, the tank will become subject to 40 CFR part 60, subpart Kb because the tank is not considered capable of accommodating the alternative product without the installation of an agitator.

Q6: Will 40 CFR part 60, subpart Kb apply if the storage tank has a usable capacity greater than or equal to 151 m3 without an internal floating roof, but the usable capacity drops below 151 m3 after the installation of an internal floating roof? Which capacity should be considered the design capacity for applicability purposes?

A6: EPA finds that the capacity of the tank prior to the installation of the internal floating roof is the design capacity for purposes of determining applicability of 40 CFR part 60, subpart Kb. The designed capacity is the nominal figure or nominal rating given to the storage vessel by the tank manufacturer. 40 CFR 60.110(a-c) identify “design capacity,” not “usable” capacity of the storage vessel to be the key parameter for considering applicability. In addition, the volume occupied by the internal floating roof cannot be subtracted to bring the tank below the threshold of NSPS subpart Kb.

Abstract for [0600046]

Q: Are three proposed 316.9 million Btu/hr resource recovery boilers, located at the Portsmouth Naval Shipyard, Norfolk, Virginia facility, which will burn a combination of coal and refuse derived fuel (RDF), subject to 40 CFR part 60, subparts D and/or Da? The steam and electricity generated by these boilers will be used exclusively to furnish the Portsmouth Naval Shipyard.

A: The boilers will not be subject to NSPS subpart Da because the boilers will not provide electricity for sale. The boilers will, however, be subject to NSPS subpart D because the boilers would have the capability to fire in excess of 250 million Btu/hr of fossil fuel. The boilers will be required to meet all emission limits for the portion of the heat input which is attributable to the fossil fuel.

Abstract for [0600047]

Q: Is the sulfur recovery plant (SRP) at the Navajo Refining Company's (Navajo's) Artesia, New Mexico, refinery subject to 40 CFR part 60, subpart J?

A: Yes. The 20 long tons per day (LTD) exception criterion in 40 CFR 60.100(a) for the production or processing capacity for the Navajo SRP does not apply. The SRU allows for the processing of more than 20 long tons per day (LTD) of sulfur based on the design basis of the unit. Although applicability of NSPS subpart J should be determined before construction begins, Navajo has not provided information sufficient to establish that the design capacity of the SRP to process input sulfur was 20 LTD or less. In addition, the sulfur production from this unit routinely exceeds 20 LTD, and Navajo has failed to demonstrate the design capacity was 20 LTD or less.

Abstract for [0600048]

Q: In lieu of the standard daily fuel nitrogen and sulfur monitoring under 40 CFR part 60, subpart GG, may the Algonquin Power co-generation facility in Windsor Locks, Connecticut (Algonquin Power) facility use the procedures in 40 CFR part 75, Appendix D, 2.3.1.4 and 2.3.2.4, to show that the gas used in a turbine meets sulfur-content specifications for pipeline-quality natural gas?

A: Yes. Pursuant to 40 CFR 60.334(b)(2), EPA approves that Algonquin Power use the procedures in 40 CFR part 75, Appendix D, 2.3.1.4 and 2.3.2.4, to show that the gas meets sulfur-content specifications for pipeline-quality natural gas. Under this approach, the daily fuel nitrogen and sulfur monitoring requirements of NSPS subpart GG would not apply as long as the part 75 monitoring demonstrated that the fuel met pipeline-quality specifications.

Abstract for [0600049] and [0600050]

Q: Does EPA approve changing the frequency of Relative Accuracy Test Audits (RATAs) and Cylinder Gas Audits (CGAs) under 40 CFR part 60, Appendix F, at the ANP Bellingham Energy Company facilities in Bellingham and Blackstone, Massachusetts, so that the frequency is consistent with similar requirements under 40 CFR part 75?

A: Yes. Pursuant to 40 CFR 60.13(i)(2), EPA approves changing the annual RATA due date to once every four operating quarters instead of once every four calendar quarters, and approves a NOX, CO and O2 CGA every operating quarter. An operating quarter is defined as one in which the unit operates 168 hours or more. Regardless of operation, the facility must conduct a CGA for NOX, CO and O2 at least once every four calendar quarters, and must conduct a RATA at least once every eight calendar quarters. This EPA approval allows ANP to follow the grace period provisions of 40 CFR part 75, Appendix B, Section 2.2.4 (for CGAs) and Section 2.3.3 (for RATAs).

Abstract for [0600051]

Q1: Does EPA approve a waiver from the nitrogen-monitoring requirement in 40 CFR 60.334(b) of NSPS subpart GG, for a natural gas fuel combustion turbine at the Bridgewater Correctional Complex in Bridgewater, Massachusetts?

A1: Yes. EPA approves waiving the requirement under 40 CFR 60.334(b) of NSPS subpart GG to monitor the nitrogen content of pipeline quality natural gas given that the natural gas does not contain fuel-bound nitrogen, and any free nitrogen in the gas would not contribute appreciably to the formation of nitrogen oxide emissions.

Q2: Does EPA approve a custom monitoring schedule to monitor the sulfur content at each renewal of the Title V Operating Permit, under 40 CFR part 60, subpart GG, for a natural gas fueled combustion turbine at the Bridgewater Correctional Complex in Bridgewater, Massachusetts (Bridgewater)?

A2: No. EPA does not approve this custom monitoring schedule. Bridgewater may use the two custom monitoring schedules set forth in 40 CFR 60.334(i)(3)(i)(A) through (D), without prior approval. Otherwise, Bridgewater must continue to follow 40 CFR 60.334(i)(2) for the monitoring frequency of the fuel's sulfur content.

Abstract for [0600052]

Q: Does EPA approve a parametric monitoring plan that includes monitoring the fuel input rate, the electric load, and the combustor temperature during the initial stack performance test, under 40 CFR part 60, subpart GG, at the Bridgewater Correctional Complex in Bridgewater, Massachusetts?

A: Yes. EPA approves the parametric monitoring plan with certain modifications and additional conditions, as specified in the EPA response letter. This parametric approach will be correlated with emissions to ensure proper operation of the control system and to ensure the facility stays within permitted limits.

Abstract for [0600053]

Q: Does EPA approve a revision to the November 22, 2002 alternative opacity monitoring procedure for boiler Number 15, under 40 CFR part 60, subpart Db, at the Fraser Papers facility in Berlin, New Hampshire (Fraser)? The November 22, 2002 approval allowed Fraser to continuously monitor and record the voltage across the electrostatic precipitator (ESP) and to continuously monitor and record the scrubber liquid flow rate to the spray tower (wet scrubber) in lieu of installing, calibrating, maintaining and operating a continuous opacity monitoring system (COMS).

A: Yes. EPA conditionally approves the revision to the 2002 alternative opacity monitoring procedure to meet NSPS subpart Db. Fraser will use secondary voltage-to-fuel oil firing rate or average performance test secondary voltage as an alternative to opacity monitoring under all load conditions. The facility must set the appropriate parameter values based on performance tests at low and high load rates.

Abstract for [0600054]

Q: Does EPA approve the use of the extended testing timelines outlined in 40 CFR part 75 instead of the timelines outlined in 40 CFR part 60, subpart Db (by referenced 40 CFR part 60, appendix F) for conducting a Relative Accuracy Test Audit (RATA) for a continuous emission monitoring system at the General Electric facility in Lynn, Massachusetts?

A: Yes. EPA approves the use of the part 75 timeline instead of NSPS subpart Db timeline. This alternative will ensure that the facility does not need to start up the boiler for the sole purpose of conducting the RATA test within the annual (four calendar quarter) deadline established in 40 CFR part 60, Appendix F, Section 5, given that the boiler is used only between 10 to 50 percent of the year.

Abstract for [0600055]

Q: Does EPA approve an alternative schedule to monitor fuels combusted on a monthly basis, under 40 CFR part 60, subpart Dc, for the Goodrich Fuel and Utility System facility in Vergennes, Vermont (Goodrich)?

A: Yes. EPA approves this alternative monitoring schedule request under 40 CFR part 60, subpart Dc, provided that Goodrich meets specific recordkeeping requirements. This alternative fuel consumption monitoring option is not an exemption from compliance with any of the fuel certification requirements in NSPS subpart Dc.

Abstract for [0600056]

Q: Does EPA approve an alternative monitoring schedule, under 40 CFR part 60, subpart Dc, for gas-fired boilers at the MassMutual Center facility in Springfield, Massachusetts? Under the proposed alternative, fuel records would be maintained on a monthly instead of daily basis.

A: Yes. EPA approves this alternative monitoring schedule as long as the boilers continue to burn exclusively natural gas. If the boilers burn any fuel other than natural gas, all provisions of NSPS subpart Dc will apply as written, including daily tracking of all fuel use from that day forward.

Abstract for [0600057]

Q: Does EPA approve changing the frequency of Relative Accuracy Test Audits (RATAs) and Cylinder Gas Audits (CGAs) under 40 CFR part 60, Appendix F, for auditing continuous emission monitors (CEMs) at the Stony Brook Energy Center facility in Ludlow, Massachusetts, so that the frequency is consistent with similar requirements under 40 CFR part 75? The Massachusetts Municipal Wholesale Electric Company (MMWEC) operates three combustion turbines at this facility, units 1A, 1B and 1C with CEMs for nitrogen oxides, carbon monoxide and carbon dioxide as required by 40 CFR part 60, NSPS subpart Db, and 40 CFR part 75.

A: Yes. EPA approves changing the annual RATA due date to once every four operating quarters, and approves omitting a CGA for the required monitoring systems except during an operating quarter. An operating quarter is defined as one in which the unit operates 168 hours or more. Regardless of operation, the facility must conduct a CGA for each monitoring system at least once every four calendar quarters and must conduct a RATA at least once every eight calendar quarters.

Abstract for [0600058]

Q: Does EPA approve VRI's request to demonstrate that its enclosure meets the permanent total enclosure (PTE) definition in 40 CFR part 51, Appendix M, Method 204, as an alternative to the monitoring requirements in 40 CFR part 60, subpart VVV, for a capture system serving one or more coating lines at the Von Roll Isola USA facility (VRI) in New Haven, Connecticut? The capture system is unlikely to comply with the requirement to stay within five percent of the monitor readings during the performance test established in 40 CFR part 60, subpart VVV due to various factors.

A: Yes. EPA conditionally approves VRI's alternative monitoring request to demonstrate that its enclosure meets the PTE definition in Method 204, provided that VRI adheres to conditions specified in EPA's response letter involving monitoring, recordkeeping, and reporting.

Abstract for [0600059]

Q1: Does EPA approve the use of certain monitoring, recordkeeping, and reporting provisions under 40 CFR part 60, subpart RRR, as alternative monitoring requirements to those under 40 CFR part 60, subpart NNN, for the Flint Hills Resources West Refinery in Corpus Christi, Texas?

A1: Yes. EPA approves the use of the provisions in NSPS subpart RRR as an alternative means of demonstrating compliance under NSPS subpart NNN for the specified distillation unit. As conditions of approval, the facility must comply with the recordkeeping and reporting requirements for flow indicators in NSPS subpart RRR, and must maintain a schematic diagram for all related affected vent streams, collection system(s), fuel systems, control devices, and bypass systems as stated in 40 CFR 60.705(s).

Q2: Will EPA approve a waiver of initial performance tests for certain boilers and heaters at the same facility?

A2: Yes. Pursuant to 40 CFR 60.8(b)(4), EPA conditionally approves the performance test waiver for the boilers and process heaters which are fired with fuel gas containing a vent stream from the Number 2 Isomerization Units and the Number 2 Parex Units. This waiver is applicable for boilers and process heaters which meet the definitions of a boiler or process heater in 40 CFR 60.701 under NSPS subpart RRR. Both the alternative monitoring and the waiver of performance testing are contingent upon the vent streams being vented to a fuel gas system and introduced into the flame zone with the primary fuel.

Abstract for [0600060]

Q: For three natural gas-fired boilers at the Edgefield Correctional Complex (ECC) in Edgefield, South Carolina, subject to 40 CFR part 60, subpart Dc, will EPA allow the facility to maintain records of the total amount of gas used in the powerhouse instead of keeping records on the amount of fuel burned in each of the boilers separately?

A: No. EPA cannot waive the requirement under NSPS subpart Dc to keep separate fuel usage records for each boiler. However, the South Carolina Department of Health and Environmental Control can approve an alternative approach under which the total gas usage in the powerhouse would be measured and apportioned between the three boilers in question, as established in a March 7, 2002, EPA Region 4 guidance letter.

Abstract for [0600061]

Q: Does EPA approve conducting visible emission (VEs) observations on a daily basis as an alternative to installing a continuous opacity monitoring (COM) system, under 40 CFR part 60, subparts AA and AAa, if it uses negative pressure baghouses, each with a single stack, to control emissions from the two electric arc furnaces (EAFs) and an argon-oxygen decarburization (AOD) vessel at the Alloys Resources plant in Albertville, Alabama?

A: Yes. EPA finds that the company's alternative monitoring proposal for the three affected facilities would be acceptable provided that it follows the procedures outlined in 40 CFR 60.273(c) and 40 CFR 60.273a(c). The EAFs and AOD are much smaller than those typically used in the secondary steel production industry, therefore, the cost of COMS would be relatively high compared to the size and the potential particulate emission rate from the furnaces at Alloys Resources which is a reasonable justification for allowing the use of daily VEs as an alternative to COMS, as described in the preamble to the Federal Register notice for the promulgation of NSPS subpart AAa.

Abstract for [0600062]

Q: May the Orange County Solid Waste Management facility change its standard operating procedures for landfill gas extraction wells, under 40 CFR part 60, subpart WWW, and shut down, as an alternative to decommissioning, the wells where gas flows are so low that applying even minimal vacuum results in air infiltration that causes exceedances of the applicable oxygen concentration limit?

A: Yes. EPA approves the alternative operating procedure provided that that the facility diagrams are updated to indicate which wells have been shutdown because landfill gas production rates are too low to permit continuous extraction. EPA finds that shutting down nonproductive wells, rather than decommissioning them, has the potential to lower overall non-methane organic compounds emissions by making it easier to resume gas collection in nonproductive areas of the landfill that subsequently experience an improvement in gas quality.

Abstract for [0600063]

Q: Does EPA find that leachate risers connected to the landfill gas collection system at the Pecan Grove Sanitary Landfill (PGSL) in Harrison County, Mississippi are subject to the operational and monitoring requirements for gas collection wells under 40 CFR part 60, subpart WWW?

A: Yes. EPA finds for purposes of NSPS subpart WWW that the risers, which function as interior wells, must be connected to the gas collection and control system if PGSL is extracting gas from active areas where waste has been in place for five years or more, or from closed areas or areas at final grade where waste has been in place for two years or more.

Abstract for [0600064]

Q: Does EPA waive a performance test, under 40 CFR part 60, subpart OOO, for particulate emission testing at the outlet of a baghouse that controls emissions from conveying equipment and two storage silos at the Henry Brick Company (HBC) plant in Selma, Alabama?

A: Yes. EPA approves a waiver for the performance test requirement under NSPS subpart OOO because the silos and sand conveying equipment at the plant operate for only short periods of time on an intermittent basis. Alternatively, the HBC facility will demonstrate compliance by conducting visible emission observations during one complete loading cycle to demonstrate compliance.

Abstract for [0600065]

Q: Does EPA waive the stack testing requirements, under 40 CFR part 60, subpart TT, for a new coil coating line at the Termalex plant in Montgomery, Alabama?

A: EPA finds that the requested test waiver is unnecessary. Volatile organic compound (VOC) emissions from the line in question are controlled with a carbon adsorption system, and under NSPS subpart TT, compliance for facilities using this control approach is determined by comparing the amount of solvent recovered to the amount consumed. This allows compliance to be assessed without a stack test; thus, the requested testing waiver is unnecessary.

Abstract for [0600066]

Q: Does the gas processing conducted at the Central Sanitary Landfill in Pompano Beach, Florida constitutes treatment under 40 CFR part 60, subpart Cc?

A: Yes. EPA finds that the landfill gas processing operation includes the three activities (filtrating to 10 microns or less, compression, and de-watering) that EPA has previously identified as necessary steps in landfill gas processing to constitute treatment under NSPS subpart WWW. The same definition would apply under NSPS subpart Cc.

Abstract for [0600067]

Q1: Does EPA accept the nitrogen monitoring waiver and the sulfur custom fuel monitoring plan proposed by Reliant Energy Choctaw County LLC (Reliant Energy), under 40 CFR part 60, subpart GG, for three natural gas-fired combined cycle electric utility generating units located in Choctaw County, Mississippi?

A1: Yes. EPA finds that these proposals are acceptable because they are consistent with previous EPA guidance regarding fuel quality monitoring options under NSPS subpart GG.

Q2: Do the procedures from 40 CFR part 75, Appendix D satisfy the fuel sulfur content monitoring provisions under NSPS subpart GG for determining the sulfur content of natural gas burned in these same units?

A2: Yes. EPA finds that, provided the units are fired with pipeline quality gas, the procedures from 40 CFR part 75, Appendix D may satisfy the fuel sulfur content monitoring provisions under NSPS, subpart GG for determining the sulfur content of natural gas burned in these units.

Q3: Does EPA waive the requirement, under 40 CFR part 60, subpart GG, to correct NOX emission rates to International Standard Organization (ISO) standard day conditions for these three units?

A3: EPA finds that the requirement can be waived for the initial testing if the units are in compliance with the NOX limits in their Prevention of Significant Deterioration (PSD) permit. Following the initial test, Reliant Energy will not need to correct results to an ISO standard basis continuously. However, the company must maintain records of the information used in making the correction so that results could be calculated in terms of the applicable NSPS subpart GG limit when there are exceedances of the PSD permit limit.

Q4: For these same three units, may Reliant Energy, under 40 CFR part 60, subpart GG conduct a single load test instead of a four-load test, use reference method results from NOX continuous emission monitoring system (CEMS) relative accuracy test audit (RATA) for the initial compliance demonstration, and conduct the test downstream of the duct burners and selective catalytic reduction (SCR)?

A4: EPA finds that the Mississippi Office of Pollution Control can approve the proposals to conduct a single load test instead of a four-load test and to use reference method results from NOX continuous emission monitoring system (CEMS) relative accuracy test audit (RATA) for the initial compliance demonstration. EPA also finds that it is acceptable to conduct the test downstream of the duct burners and SCR system because the proposed sampling location is downstream of the combined cycle unit's control system.

Q5: May data from CEMS installed on the exhaust stack of each of these Reliant Energy units be used for reporting gas turbine excess emissions under 40 CFR part 60, subpart GG?

A5: Yes. EPA finds that although Reliant Energy proposed reporting excess emissions under NSPS subpart GG only while operating in the combined cycle mode, the company must also monitor and report excess emissions when the turbines are operating in the simple cycle mode.

Q6: Does EPA waive the requirement to test and monitor NOX emissions separately for the natural gas-fired turbines and duct burners in the combined cycle systems, under 40 CFR part 60, subpart GG?

A6: EPA finds that the requested waiver is unnecessary because NSPS subpart Da includes an option that allows owners and operators of combined cycle systems to determine/monitor duct burner NOX compliance using results from a CEMS located downstream of the duct burner.

Q7: Does demonstrating compliance with the particulate emission limit in the PSD permit for these units constitute an adequate demonstration of compliance for the duct burner's particulate limit under 40 CFR part 60, subpart Da?

A7: Yes. EPA finds that particulate testing conducted after the duct burners while the combined cycle units are operating at no less than 95 percent of capacity is acceptable. Since the applicable PSD limit for particulate emissions from the Reliant Energy's combined cycle systems is one-third of the corresponding subpart Da for the Reliant Energy's duct burners, demonstrating compliance with the PSD limit would provide adequate assurance of compliance with NSPS subpart Da and would justify a waiver of the requirement to conduct particulate testing at both the inlet and outlet of the duct burners.

Q8: Does EPA waive the requirement to conduct testing for determining compliance with the sulfur dioxide limit under 40 CFR part 60, subpart Da at these units? May Reliant Energy use the sulfur dioxide reporting and recordkeeping provisions from 40 CFR part 75, Appendix D in lieu of those in subpart Da?

A8: EPA finds that if Reliant Energy verifies that the fuel used in the duct burners is pipeline quality natural gas, then no testing will be required because the emissions from pipeline natural gas will be orders of magnitude below the NSPS subpart Da limit. For reporting, the same results can be used to quantify emissions under both part 75 and NSPS subpart Da. Because reporting sulfur dioxide excess emissions under NSPS subpart Da will provide EPA with useful information and is not overly burdensome, the request to waive the NSPS subpart Da reporting requirements is not approved.

Q9: Does EPA waive the applicable NOX emission limit, under 40 CFR part 60, subpart Da, of 1.6 pounds per megawatt—hour for the duct burners in these units?

A9: No. Since Reliant Energy compliance proposal for NOX blends aspects of the two compliance options for duct burners subject to the 1.6 lb/Mwh limit in 40 CFR 60.44a(d), the EPA cannot waive the performance testing requirements under either of these options at this time.

Q10: Does EPA find that there are acceptable alternative procedures proposed for demonstrating compliance with 40 CFR part 60, subpart Da, NOX limits for duct burners at these units?

A10: No. EPA finds that there are two NOX compliance demonstration options for duct burners under NSPS subpart Da, and EPA cannot approve an alternative approach until Reliant Energy clarifies which of the two compliance options is covered by the company's request.

Abstract for [0600068]

Q: Does EPA allow Berkshire Power's facility in Agawam, Massachusetts to conduct nitrogen oxides (NOX) and oxygen (O²) daily continuous emissions monitoring system (CEMS) calibrations using 40 CFR part 75 procedures, instead of the procedures specified in 40 CFR part 60, subpart GG?

A: Yes. EPA finds that under 40 CFR 60.13(i)(2), it has the authority to approve alternate methods and procedures. Accordingly, EPA approves the request to show compliance with NSPS subpart GG daily calibration requirements by conducting NOX and O² daily calibrations according to the provisions of 40 CFR part 75, Appendix B, Section 2.1, subject to specific conditions. Note that this alternative calibration option is not an exemption from compliance with NSPS subpart GG.

Abstract for [0600069]

Q1: Could EPA clarify the “Day 0” compliance dates for 40 CFR part 60, subpart GGG, and 40 CFR part 60, subpart WWW, at Brown Ferris Industries of North America's (BFI) Little Dixie Sanitary Landfill in Ridgeland, Mississippi?

A1: EPA finds that based upon the effective date of NSPS subpart GGG, the “Day 0” compliance date would be April 6, 2000. “Day 0” for NSPS subpart WWW compliance would be the day that BFI commenced the vertical expansion approved in a permit issued to the Mississippi Office of Pollution Control on October 14, 2003.

Q2: Could EPA clarify how earlier compliance activities performed under 40 CFR part 60, subpart GGG affect compliance schedules and requirements under 40 CFR part 60, subpart WWW at this landfill?

A2: EPA finds that the impact under these overlapping rules would depend upon whether the non-methane organic compound (NMOC) emission rate from the landfill exceeded 50 megagrams prior to the applicability of NSPS subpart WWW. Triggering this threshold prior to the applicability of NSPS subpart WWW would not change the applicable compliance deadlines under NSPS subpart GGG. If the 50 megagram threshold is not exceeded prior to the applicability of NSPS subpart WWW, prior Tier 2 or Tier 3 test results can be used for calculating NMOC emission rates, provided that the five-year deadline for retesting is based upon the original test date instead of the NSPS subpart WWW applicability date.

Abstract for [0600070]

Q: Does EPA approve the request for an alternative opacity monitoring method for an oil-fired auxiliary steam generating unit that has a design heat input capacity of 652.58 mmBtu/hr, under 40 CFR part 60, subpart Db, at the Cardinal Power Plant (Cardinal) in Brilliant, Ohio, owned by the American Electric Power (“AEP”) and Buckeye Power Inc.?

A: Yes. EPA approves the alternative opacity monitoring requests, under NSPS subpart Db, provided that the annual capacity factor is limited to 10 percent, and that the company collect opacity data and report exceedances of the opacity standard in 40 CFR 60.43b(f), as discussed in the EPA response.

Abstract for [0600071]

Q: Does EPA approve a performance test time extension under 40 CFR part 60, subpart OOO, to combine the testing into a single test program upon completion of the proposed modifications at the P.J. Keating Company facility in Acushnet, Massachusetts (Keating)?

A: No. The request involves Keating's primary crusher, and the test is required to demonstrate compliance pursuant to NSPS subpart OOO. Based on the information provided, there are no grounds for an extension under NSPS subpart OOO or 40 CFR 60.8.

Abstract for [0600072]

Q: Does EPA approve alternative operating parameter monitoring and recording requirements under 40 CFR part 60, subpart Ec, for a medical infectious waste incinerator (HMIWI) located at the Wilkes-Barre General Hospital in Wilkes-Barre, Pennsylvania?

A: Yes. EPA approves monitoring and recording the tertiary chamber temperature instead of the secondary chamber temperature and recording the minimum flow rate of 50 percent NaOH to the Evaporative Cooler/Scrubber as a site-specific operating parameter under NSPS subpart Ec. EPA also relieves the hospital from monitoring the minimum pressure drop across the wet scrubber or the minimum horsepower or amperage to the wet scrubber. EPA agrees that, given site-specific considerations, neither of these monitoring parameters is appropriate as the removal efficiency of the acid gases in the spray tower is not dependent upon pressure drop, minimum horsepower, or amperage. Instead, EPA agrees that establishing and monitoring the flow rate of both the 50 percent NaOH (liquid) and the flow rate of the lime injected into the system are appropriate operating parameters for this system.

Abstract for [0600074]

Q: Does EPA approve an alternative monitoring and recordkeeping frequency for boiler fuel usage from daily to monthly monitoring and recordkeeping, under 40 CFR part 60, subpart Dc, at ISG's Steelton, Pennsylvania steelmaking facility?

A: Yes. EPA approves the change to monthly recordkeeping and monitoring of the boiler fuel usage under NSPS subpart Dc, as this is a very small boiler that combusts only natural gas fuel.

Abstract for [0600075]

Q: Does EPA approve an alternative monitoring method for opacity, under 40 CFR part 60, subpart Db, for the Koppers Monessen, Pennsylvania coke plant boiler?

A: Yes. EPA finds that this boiler only combusts cleaned coke oven gas as fuel. Therefore, EPA approves the use of Method 22 on a daily basis followed by Method 9 opacity readings by a certified opacity evaluator, if any emissions are witnessed via Method 22.

Abstract for [0600076]

Q: Does EPA approve an alternative fuel usage recordkeeping frequency, under 40 CFR part 60, subpart Dc, for Nylstar's two Kewanee boilers at its Ridgeway, Virginia plant?

A: Yes. EPA approves the change from daily recordkeeping to monthly recordkeeping of fuel usage under NSPS subpart Dc because only very clean fuels are permitted to be combusted in these boilers.

Abstract for [0600077]

Q: Does EPA approve a boiler capacity deration due to a burner change, under 40 CFR part 60, subpart Dc, at the Sunsweet Growers facility in Fleetwood, Pennsylvania?

A: Yes. EPA approves of the boiler deration due to the burner change under NSPS subpart Dc. This project will meet the requirements of EPA's deration policy and will be a permanent physical change to the boiler operation that will limit the heat input capacity on a permanent basis.

Abstract for [0600078]

Q: Does EPA approve a heat input capacity derate procedure, under 40 CFR part 60, subpart Dc, for a boiler, located at Temple University in Pennsylvania, that involves mechanical and electronic changes to limit the heat input to less than 30 million BTUs per hour?

A: No. EPA does not approve of the derate procedure under NSPS subpart Dc because it does not represent a permanent physical change to limit the heat input capacity of the boiler in accordance with established EPA policy.

Abstract for [0600079]

Q: Can a nitrogen oxides predictive emission monitoring system (PEMS) installed and tested on a 40 CFR part 60, subpart Db boiler at the BP Chemical Company plant in Decatur, Alabama, be used for both the initial performance test and the ongoing compliance monitoring required for the unit?

A: Yes. EPA finds that based on the results of relative accuracy test audits conducted on the PEMS and the large margin of compliance with respect to the applicable emission standard, the PEMS is an acceptable alternative to a continuous emission monitoring system for conducting both the initial performance test and the ongoing compliance monitoring for the boiler under NSPS subpart Db.

Abstract for [0600080]

Q: Will EPA waive the requirement in 40 CFR 60.486(e)(1) to record a list of identification numbers for certain equipment subject to 40 CFR part 60, subpart VV, for the Solutia facility in Pensacola, Florida?

A: Yes. Pursuant to 40 CFR 60.13(i), EPA finds that a waiver for equipment following the first reaction step in the company's adipic acid process unit is appropriate because NSPS subpart VV, indicates no subsequent requirements which would make use of a detailed record of the equipment which follows the first reaction step. All equipment after the first reaction step will comply with 40 CFR 60.482-8(a)(2) and will be in heavy liquid service. EPA's response also includes a clarification of the recordkeeping and reporting requirements for the equipment in heavy liquid service complying with 40 CFR 60.482-8(a)(2).

Abstract for [0600081]

Q: Does EPA approve of alternative temperature limits proposed for seven gas collection wells, under 40 CFR part 60, subpart WWW, at the Broadhurst Environmental Landfill located in Screven, Georgia?

A: Yes. EPA finds that the proposed alternative temperature limits are acceptable under NSPS subpart WWW because the criteria for approval of a higher wellhead temperature limit under the provisions in 40 CFR 60.753(c) is met. Specifically, the data indicates that the elevated temperatures in these wells have not caused landfill fires or significantly inhibited anaerobic decomposition at the site.

Abstract for [0600083]

Q: Does EPA approve an alternative monitoring plan for the purge gas stream to a flare, under 40 CFR part 60, subpart J, at the Valero's Wilmington Refinery?

A: Yes. EPA finds that an alternative monitoring plan is appropriate under NSPS subpart J, provided the purge gas stream is stable and low in H2S concentration.

Abstract for [0600084]

Q: Could EPA clarify the interpretation of the term “3 percent,” under 40 CFR part 60, subpart O, when recording the average oxygen content measured in the exhaust gas of a sewage sludge incinerator? Specifically, could EPA clarify whether “3 percent” means an oxygen percentage reading plus 3 percent, or 3 percent of the oxygen percentage?

A: 40 CFR 60.155(a)(2) requires that excess oxygen levels be reported. Reportable readings are those readings, when interpreted as a percentage of oxygen in the exhaust gases, that are more than 3 percent oxygen in excess of the percentage measured during the most recent performance test.

Abstract for [0600085]

Q1: Is a proposal to use an alternative equation for calculating the coke burn-off rate for a fluid catalytic cracking (FCC) unit at the Chevron Products refinery in Pascagoula, Mississippi, acceptable under 40 CFR part 60, subpart J?

A1: Yes. EPA finds that there are typographical errors in the coke burn-off calculation in the current version of NSPS subpart J, and the proposed alternative calculation taken from 40 CFR part 63, subpart UUU is acceptable because it does not contain any typographical errors since it includes a term to account for enriched air introduced into the FCC regenerator.

Q2: Is an alternative method that the Chevron Products proposed to use for determining the catalyst regenerator exhaust gas flow rate acceptable under 40 CFR part 60, subpart J?

A2: Yes. EPA finds that because the equation that Chevron proposes to use for calculating the exhaust gas flow rate comes from 40 CFR part 63, subpart UUU, using the same equation for flow rate calculations under 40 CFR part 60, subpart J is acceptable.

Abstract for [0600086]

Q1: Is the proposal to use information regarding the fuel consumption rate, flue gas oxygen concentration, and F-factors to calculate the exhaust gas flow rate for two stationary gas turbines at Mississippi State University in Starkville, Mississippi acceptable under 40 CFR part 60, subpart GG?

A1: Yes. EPA finds that the proposed approach for determining the turbines' exhaust gas flow rate is acceptable, provided that the accuracy of the meters used to determine fuel usage rates is comparable to that of EPA Method 2.

Q2: Does EPA find that emission test results from one of the two identical stationary gas turbines can be used to verify compliance for both units under 40 CFR part 60, subpart GG?

A2: Yes. EPA finds that the requested waiver under NSPS subpart GG will be acceptable, provided that the emission rate for the unit that is tested does not exceed 50 percent of the applicable emission standard.

Abstract for [0600087]

Q: Does EPA approve an alternate monitoring plan for the semi-regenerative reformer regeneration gas streams routed to a reformer heater subject to 40 CFR part 60, subpart J, at ExxonMobil's Torrance, California refinery?

A: Yes. EPA finds that an alternative monitoring plan is allowed under NSPS subpart J, provided these gas streams are stable and low in H2S concentration.

Abstract for [0600088]

Q: Does EPA approve an alternative monitoring approach for determining glass pull rates at the Knauf Insulation GmbH plant in Alabama to comply with 40 CFR part 60, subpart PPP? Knauf Insulation proposes to use flow cameras, that the company has installed in order to comply with a monitoring requirement contained in 40 CFR Part 63, Subpart NNN, as an alternative to calculating the glass pull rate using the equation in 40 CFR 60.685(b)(3).

A: Yes. EPA finds that determining pull rates using the monitoring system required under 40 CFR part 63, subpart NNN, is acceptable because the results obtained using properly calibrated flow cameras should be more accurate than those determined using the equations in NSPS subpart PPP.

Abstract for [0600089]

Q: Does EPA approve an alternative nitrogen oxides (NOX) continuous emission monitor system (CEMS) span value for a 40 CFR part 60, subpart Db boiler located at the Indiantown, Florida power plant?

A: Yes. EPA finds that the alternative span value proposed by the company (300 ppm) will improve the resolution of the CEMS, and therefore, it is acceptable.

Abstract for [0600090]

Q: Can the requirement to conduct an initial performance test on the baghouse used to control particulate emissions from the Product Rework Bin facility at the Harborlite Corporation in Youngsville, North Carolina, be waived under 40 CFR part 60, subpart OOO?

A: The performance test waiver requested by the company is unnecessary because the baghouse in question is not subject to a particulate concentration limit under 40 CFR part 60, subpart OOO. The baghouse controls emissions from the Product Rework Bin facility, and not from other parts of the plant. Because of this configuration, the Product Rework Bin facility is subject to an emission standard in 40 CFR 60.672(f) that includes an opacity limit of seven percent but not to the particulate concentration limit that applies to other types of facilities with stack emissions.

Abstract for [0600091]

Q: Biogen Idec in Research Triangle Park, North Carolina (Biogen), proposes to derate two boilers by replacing the forced draft fans with smaller fans and motors, and reducing the fuel flow capacity. Is this derate proposal acceptable under 40 CFR part 60, subpart Dc?

A: Yes. EPA approves the derate proposal under NSPS subpart Dc since it will permanently reduce the capacity of the boilers, provided Biogen follows the procedures established in EPA's response. If the facility wants to increase the capacity of the boiler after it has been derated, a notification of the proposed modifications must be submitted to the EPA.

Abstract for [0600092]

Q: Are two separate disposal areas located in Statesville, North Carolina and operated by Iredell County contiguous under 40 CFR part 60, subpart WWW?

A: Yes. EPA finds that although a golf course is located between the closed and active disposal areas, these areas are contiguous because Iredell County owned both of them and two other adjoining properties on the date NSPS subpart WWW was promulgated.

Abstract for [0600093]

Q: Premium Standard Farms in Clinton, North Carolina, proposes to derate two boilers by replacing the forced draft fans with smaller fans and motors and reducing the fuel flow capacity. Is this derate proposal acceptable under 40 CFR part 60, subpart Dc?

A: Yes. EPA approves the derate proposal under NSPS subpart Dc, since it will permanently reduce the capacity of the boilers, provided Premium Standard Farms follows the procedures established in EPA's response. If the facility wants to increase the capacity of the boiler after it has been derated, a notification of the proposed modifications must be submitted to the EPA.

Abstract for [0600094]

Q: The Apex Oil Company bulk gasoline terminal in Greensboro, North Carolina, has been modified, and the company requests a waiver from the requirement under 40 CFR 60.8(a) to conduct an initial performance test to demonstrate compliance under 40 CFR part 60, subpart XX. Will EPA grant a waiver from the requirement for an initial performance test based on the results of a test conducted ten years ago?

A: No. An initial performance test will be needed to document compliance under NSPS subpart XX following the modification of the facility.

Abstract for [0600095]

Q: Is the opacity monitoring alternative that the ABC Coke Company proposes for a natural gas and coke oven gas-fired boiler at its Birmingham, Alabama, coke plant acceptable under 40 CFR part 60, subpart Db?

A: Yes. EPA finds that conducting visible emission observations would be an acceptable alternative to a continuous opacity monitoring system for ABC Coke, provided specific conditions listed in the EPA response letter are met.

Abstract for [0600096]

Q: Are the monitoring requirements for landfill gas wells applicable to leachate collection risers connected to the active gas collection system, under 40 CFR part 60, subpart WWW, at the Carter Valley Landfill in Church Hill, Tennessee?

A: EPA finds that the applicability of the monitoring requirements in question depends upon the age of the waste where the risers are located. Any risers collecting gas from active areas where waste has been in place for five years or more or where waste has been in place for two years or more in either closed areas or areas that are at final grade would be subject to the monitoring requirements in NSPS subpart WWW.

Abstract for [0600097]

Q: Could EPA clarify what is the correct monitor path length value to use for the outer section of a stack at the Asarco copper smelter in Hayden, Arizona (Asarco), under 40 CFR part 60, subparts A and P? The copper smelter discharges emissions to the atmosphere from a 1000 feet tall stack that incorporates physically separate inner and outer sections.

A: EPA finds that for purposes of NSPS subparts A and P, Asarco may use the outer diameter minus the inner diameter of the tall stack for the monitor pathlength of the continuous opacity monitoring system operated in the outer, or annular, section of the tall stack.

Abstract for [0600098]

Q: Does EPA approve Eastman Chemical Company's, Kingsport, Tennessee plant (Eastman) proposal to monitor for the presence of a pilot flame, in order to verify the performance under 40 CFR part 60, subpart NNN of an enclosed flare at its Kingsport, Tennessee plant?

A: No. Verifying the presence of a pilot flame alone is not sufficient. To provide adequate assurance of compliance under NSPS subpart NNN, Eastman must conduct testing to identify the flare temperature needed to achieve the required level of volatile organic compound destruction.

Abstract for [0600099]

Q: Does EPA approve alternative monitoring plans for 22 separate refinery fuel gas streams at the Chevron's Richmond, California (Chevron) refinery under 40 CFR part 60, subpart J?

A: Yes. Chevron's submittal meets the requirements of EPA's refinery fuel gas guidance titled Alternative Monitoring Plan for NSPS Subpart J Refinery Fuel Gas, and is approved in accordance with the specific technical elements specified in attachments to EPA's approval letter.

Abstract for [0600100]

Q1: Will EPA approve a request to deviate from the assumption that a violation of the carbon monoxide (CO) emission limit occurs if the facility operates their hospital medical infectious waste incinerator (HMIWI) above the maximum charge rate and below the minimum secondary combustion chamber temperature simultaneously as stated in 40 CFR part 60, subpart Ec, 40 CFR 60.56c(e)(1), if the facility has actual CO emissions data on a real-time basis from a CO continuous emissions monitoring system (CEMS)?

A1: Yes. EPA agrees that direct measurement of CO emissions using an EPA compliant continuous CO emissions monitor, which shows that CO emissions are within the allowable limit of 40 parts per million by volume adjusted to 7 percent oxygen measured on a dry basis at standard conditions, is superior to using surrogate parameters. As a matter of policy, the first and foremost option considered by the EPA is to require the use of CEMS to demonstrate continuous compliance with specific emission limits. Other options are considered only when CEMS are not available or when the impacts of including such requirements are considered unreasonable. In addition, a CEMS for oxygen must be installed, calibrated, maintained, and operated to monitor the oxygen concentration at each location where you monitor CO. EPA describes requirements applicable to CEMS in the response.

Q2: Will EPA approve a request to eliminate the operating parameter monitoring requirements for maximum charge rate as specified in 40 CFR 60.57c(a) and in Table 3 of 40 CFR part 60, subpart Ec?

A2: No. EPA will not grant approval to eliminate monitoring the maximum charge rate as an operating parameter as it is linked to all emission limits, and not only to CO emissions. According to the definition for maximum charge rate for a continuous and intermittent hospital medical infectious waste incinerator (HMIWI) given in 40 CFR 60.51c, the maximum charge rate is linked to compliance with all applicable emission limits, which includes particulate matter (PM), CO, dioxins/furans, hydrogen chloride (HCl), lead (Pb), cadmium (Cd), mercury (Hg), sulfur dioxide (SO2), nitrogen oxides (NOX), and opacity.

Q3: Will EPA approve a request to eliminate the operating parameter monitoring requirements for minimum secondary chamber temperature as specified in 40 CFR 60.57c(a) and Table 3 of 40 CFR part 60, subpart Ec?

A3: Yes. EPA approves eliminating monitoring of the minimum secondary chamber temperature as an operating parameter when the CO emissions are measured using an EPA compliant continuous CO monitor, as described in the response letter, and the emissions are within the CO emission limits. EPA views CO emissions level as a function of combustion efficiency and agrees that the use of an EPA compliant continuous CO monitor will provide the information on combustion efficiency that the surrogate parameter of secondary chamber temperature was intended to provide.

Q4: Will EPA approve a request to eliminate the record keeping requirements for HMIWI charge dates, times, and weights and hourly charge rates as specified in 40 CFR 60.58c(b)(2)(iii) in 40 CFR part 60, subpart Ec?

A4: No. As previously stated in A2, above, the maximum charge rate parameters are linked to other emission limits besides CO emission limits.

Q5: Will EPA approve a request to eliminate the record keeping requirements for the HMIWI secondary chamber temperatures for each minute of operation as specified in 40 CFR part 60, subpart Ec?

A5: Yes. EPA agrees that actual data from an EPA compliant continuous CO monitor will provide the information on combustion efficiency that the surrogate parameter of secondary chamber temperature was intended to provide.

Dated: July 12, 2007.
Michael M. Stahl,
Director, Office of Compliance.

[FR Doc. E7-13894 Filed 7-25-07; 8:45 am]

BILLING CODE 6560-50-P